DEPARTMENT OF TRANSPORTATION

Maritime Administration

[Docket No. MARAD-2024-0122]

Request for Comments on the Renewal of a Previously Approved Collection: Shipbuilding Orderbook and Shipyard Employment

AGENCY: Maritime Administration, DOT

ACTION: Notice.

SUMMARY: The Maritime Administration (MARAD) invites public comments on our intention to request the Office of Management and Budget (OMB) approval to renew an information collection. The proposed collection OMB 2133-0029 (Shipbuilding Orderbook and Shipyard Employment) is used to provide essential information for reports, services, projects, and database to better understand the current state of the shipyards in the U.S. In compliance with the Merchant Marine Act of 1936, as amended, MARAD conducts this survey to obtain information from the shipbuilding and ship repair industry to be used primarily to determine if an adequate mobilization base exists for national defense and for use in a national emergency. There are no changes to the collection since the last renewal. We are required to publish this notice in the Federal Register to obtain comments from the public and affected agencies.

ADDRESSES: Written comments and recommendations for the proposed information collections should be sent within 30 days of publication of this notice to www.reginfo.gov/public/do/PRAMain. Find this particular information collection by selecting “Currently under 30-day Review—Open for Public Comments” or by using the search function.

FOR FURTHER INFORMATION CONTACT: Elizabeth Gearhart, 202-366-1867, Office of Shipyards and Marine Engineering (MAR 720), Maritime Administration, U.S. Department of Transportation, 1200 New Jersey Ave SE, Washington, DC 20590, Email: beth.gearhart@dot.gov.

SUPPLEMENTARY INFORMATION: Title: Shipbuilding Orderbook and Shipyard Employment.

OMB Control Number: 2133-0029.

Type of Request: Extension of a previously approved information collection.

Abstract: In compliance with 46 U.S.C. 50102 (2007), the Merchant Marine Act of 1936, as amended, MARAD conducts this survey to obtain information from the shipbuilding and ship repair industry to be used primarily to determine if an adequate mobilization base exists for national defense and for use in a national emergency.

Respondents: Owners of U.S. shipyards who agree to complete the requested information.

Affected Public: Business or other for profit.

Estimated Number of Respondents: 200.

Estimated Number of Responses: 200.

Estimated Hours per Response: 0.5.

Annual Estimated Total Annual Burden Hours: 100.

Frequency of Response: Once Annually.

A 60-day Federal Register Notice soliciting comments on this information collection was published on June 13, 2024 (89 FR 50405).

(Authority: The Paperwork Reduction Act of 1995; 44 U.S.C. Chapter 35, as amended; and 49 CFR 1.49.)

By Order of the Maritime Administrator.
T. Mitchell Hudson, Jr.
Secretary, Maritime Administration.

[FR Doc. 2024-21104 Filed 9-16-24; 8:45 am]

BILLING CODE 4910-81-P